FEDERAL MARITIME COMMISSION

Ocean Transportation Intermediary License Reissuance

Notice is hereby given that the following Ocean Transportation Intermediary licenses have been reissued by the Federal Maritime Commission pursuant to section 19 of the Shipping Act of 1984 (46 U.S.C. Chapter 409), and the regulations of the Commission pertaining to the licensing of Ocean Transportation Intermediaries, 46 CFR Part 515.

License No. | Name/address | Date reissued
017269N | Fastmark Corporation, 8410 NW 70th Street, Miami, FL 33166 | April 11, 2007.
020035NF | Latek Logistics USA Inc., 175-18 147th Avenue, Jamaica, NY 11434 | March 29, 2007.

Sandra L. Kusumoto,
Director, Bureau of Certification and Licensing.

[FR Doc. E7-8393 Filed 5-1-07; 8:45 am]

BILLING CODE 6730-01-P